DEPARTMENT OF DEFENSE

Department of the Navy

[Docket ID: USN-2025-HQ-0169]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by January 28, 2026.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; associated form; and OMB number: Response to Marine Corps NAF Debt Collection Notice; NAVMC 11787; OMB Control Number 0712-0008.

Type of request: Revision.

Number of respondents: 1,975.

Responses per respondent: 1.

Annual responses: 1,975.

Average burden per response: 10 minutes.

Annual burden hours: 329.

Needs and uses: The information collection requirement is necessary to notify and account for vendors and patrons indebted to Marine Corps Non-Appropriated Fund Instrumentality (NAFI) businesses and services for the purpose of repayment management or debt collection dependent on the response option elected by the respondent. Respondents are informed of their alleged debt and use the NAVMC Form 11787, “Response to Marine Corps NAF Debt Collection Notice,” to elect to repay the debt in full, agree to a repayment plan, dispute the debt, or indicate that bankruptcy has been filed.

Affected public: Business or other for-profit; individuals or households.

Frequency: On occasion.

Respondent's obligation: Voluntary.

DoD clearance officer: Mr. Reginald Lucas.

Dated: December 19, 2025.
Stephanie J. Bost,
Alternate OSD Federal Register Liaison Officer, Department of Defense.

[FR Doc. 2025-23791 Filed 12-23-25; 8:45 am]

BILLING CODE 6001-FR-P